COMMITTEE FOR PURCHASE FROM PEOPLE WHO ARE BLIND OR SEVERELY DISABLED

Procurement List; Additions and Deletions

AGENCY: Committee for Purchase from People Who Are Blind or Severely Disabled.

ACTION: Additions to and deletions from the Procurement List.

SUMMARY: This action adds to the Procurement List services to be furnished by nonprofit agencies employing persons who are blind or have other severe disabilities, and deletes from the Procurement List a product and services previously furnished by such agencies.

DATES: Effective Date: January 13, 2008.

ADDRESSES: Committee for Purchase From People Who Are Blind or Severely Disabled, Jefferson Plaza 2, Suite 10800, 1421 Jefferson Davis Highway, Arlington, Virginia, 22202-3259.

FOR FURTHER INFORMATION CONTACT: Kimberly M. Zeich, Telephone: (703) 603-7740, Fax: (703) 603-0655, or e-mail CMTEFedReg@jwod.gov.

SUPPLEMENTARY INFORMATION:

Additions

On October 5 and October 19, 2007, the Committee for Purchase From People Who Are Blind or Severely Disabled published notice (72 FR 56983; 59251) of proposed additions to the Procurement List.

After consideration of the material presented to it concerning capability of qualified nonprofit agencies to provide the services and impact of the additions on the current or most recent contractors, the Committee has determined that the services listed below are suitable for procurement by the Federal Government under 41 U.S.C. 46-48c and 41 CFR 51-2.4.

Regulatory Flexibility Act Certification

I certify that the following action will not have a significant impact on a substantial number of small entities. The major factors considered for this certification were:

1. The action will not result in any additional reporting, recordkeeping or other compliance requirements for small entities other than the small organizations that will furnish the services to the Government.

2. The action will result in authorizing small entities to furnish the services to the Government.

3. There are no known regulatory alternatives which would accomplish the objectives of the Javits-Wagner-O'Day Act (41 U.S.C. 46-48c) in connection with the services proposed for addition to the Procurement List.

End of Certification

Accordingly, the following services are added to the Procurement List:

Services

Service Type/Location: Catering Services, San Antonio Detention Center, 8940 Fourwinds Drive, 1st Floor Detention Branch, San Antonio, TX.

NPA: Goodwill Industries of San Antonio, San Antonio, TX.

Contracting Activity: Immigration and Customs Enforcement, Washington, DC.

Service Type/Location: Document Destruction, Internal Revenue Service, 200 Granby Street, Norfolk, VA.

Service Type/Location: Document Destruction, Internal Revenue Service, 903 Gateway Blvd, Hampton, VA.

NPA: Louise W. Eggleston Center, Inc., Norfolk, VA.

Contracting Activity: U.S. Department of the Treasury, Internal Revenue Service, Chamblee, GA.

Deletions

On October 19, 2007, the Committee for Purchase From People Who Are Blind or Severely Disabled published notice (72 FR 59291-59252) of proposed deletions to the Procurement List.

After consideration of the relevant matter presented, the Committee has determined that the products and services listed below are no longer suitable for procurement by the Federal Government under 41 U.S.C. 46-48c and 41 CFR 51-2.4.

Regulatory Flexibility Act Certification

I certify that the following action will not have a significant impact on a substantial number of small entities. The major factors considered for this certification were:

1. The action may result in additional reporting, recordkeeping or other compliance requirements for small entities.

2. The action may result in authorizing small entities to furnish the product and services to the Government.

3. There are no known regulatory alternatives which would accomplish the objectives of the Javits-Wagner-O'Day Act (41 U.S.C. 46-48c) in connection with the product and services deleted from the Procurement List.

End of Certification

Accordingly, the following product and services are deleted from the Procurement List:

Product

Paper, Xerographic & Inkjet (Large Format)

NSN: 7530-00-NIB-0483

NSN: 7530-00-NIB-0598

NSN: 7530-00-NIB-0599

NSN: 7530-00-NIB-0600

NSN: 7530-00-NIB-0601

NSN: 7530-00-NIB-0602

NSN: 7530-00-NIB-0603

NSN: 7530-00-NIB-0604

NSN: 7530-00-NIB-0605

NSN: 7530-00-NIB-0606

NSN: 7530-00-NIB-0607

NSN: 7530-00-NIB-0608

NSN: 7530-00-NIB-0609

NSN: 7530-00-NIB-0610

NSN: 7530-00-NIB-0611

NSN: 7530-00-NIB-0612

NSN: 7530-00-NIB-0613

NSN: 7530-00-NIB-0614

NSN: 7530-00-NIB-0615

NSN: 7530-00-NIB-0616

NSN: 7530-00-NIB-0617

NSN: 7530-00-NIB-0618

NSN: 7530-00-NIB-0619

NSN: 7530-00-NIB-0620

NSN: 7530-00-NIB-0621

NSN: 7530-00-NIB-0622

NSN: 7530-00-NIB-0623

NSN: 7530-00-NIB-0624

NSN: 7530-00-NIB-0625

NSN: 7530-00-NIB-0626

NSN: 7530-00-NIB-0627

NSN: 7530-00-NIB-0628

NSN: 7530-00-NIB-0629

NSN: 7530-00-NIB-0630

NSN: 7530-00-NIB-0631

NSN: 7530-00-NIB-0632

NSN: 7530-00-NIB-0633

NSN: 7530-00-NIB-0634

NSN: 7530-00-NIB-0635

NSN: 7530-00-NIB-0636

NSN: 7530-00-NIB-0637

NSN: 7530-00-NIB-0638

NSN: 7530-00-NIB-0639

NSN: 7530-00-NIB-0640

NSN: 7530-00-NIB-0641

NSN: 7530-00-NIB-0642

NPA: Wiscraft Inc.—Wisconsin Enterprises for the Blind, Milwaukee, WI.

Contracting Activity: General Services Administration, Office Supplies & Paper Products Acquisition Ctr, New York, NY.

Services

Service Type/Location: Food Service Attendant, Air National Guard Base, Building 600, Lincoln, NE.

NPA: Goodwill Services, Inc., Lincoln, NE.

Contracting Activity: Air National Guard, Lincoln, NE.

Service Type/Location: Grounds Maintenance, U.S. Department of Agriculture, Forest Service Office, Beaverhead-Deerlodge National Forest, Butte, MT.

NPA: BSW, Inc., Butte, MT.

Contracting Activity: U.S. Department of Agriculture, Forest Service, Butte, MT.

Service Type/Location: Janitorial/Custodial, U.S. Customs Service, 8855 NE Airport Way, Portland, OR.

NPA: Portland Habilitation Center, Inc., Portland, OR.

Contracting Activity: U.S. Customs Service, Indianapolis, IN.

Kimberly M. Zeich,
Director, Program Operations.

[FR Doc. E7-24226 Filed 12-13-07; 8:45 am]

BILLING CODE 6353-01-P